DEPARTMENT OF DEFENSE

Department of the Army; Corps of Engineers

Intent To Prepare an Environmental Impact Statement for the Arkansas White River Cutoff Study

AGENCY: Department of the Army, U.S. Army Corps of Engineers, DOD.

ACTION: Notice of intent.

SUMMARY: Pursuant to the National Environmental Policy Act (NEPA), the U.S. Army Corps of Engineers (USACE), DOD, Little Rock District will prepare an Environmental Impact Statement (EIS) for the Arkansas White River (Ark-White) Cutoff Study.

The purpose of the EIS will be to present alternatives and assess the impacts associated with implementation of environmentally sustainable solutions for reducing headcutting and scouring in the Ark-White Cutoff area. The two rivers are attempting to join in this area and are strongly influenced by high water in the Mississippi River. The study area includes the Lower Arkansas River below Dam #2, the lower 5-10 miles of the White River in Arkansas, and any adjacent landmasses that are presently being impacted or could be potentially impacted by the alternatives. There are numerous public and private entities that have a variety of interests within the study area. Headcutting and scouring in the study area has resulted in adverse impacts to navigation and the environment. Solutions will focus on decreasing erosion on the white river containment structure, reducing degradation of the landmass separating the White and Arkansas River, and other required features to ensure navigation on the McClellan-Kerr Arkansas River Navigation System (McKARNS) is maintained. Proposed improvements resulting from the study could impact (positively or negatively) navigation, agriculture, silviculture, hydropower, recreation, flood control, fish and wildlife. The EIS will evaluate potential impacts (beneficial and adverse) to the natural, physical, and human environment as a result of implementing any of the proposed project alternatives that may be developed during the EIS process.

FOR FURTHER INFORMATION CONTACT: Questions or comments concerning the proposed action should be addressed to: Ms. Tricia Anslow, Chief, Environmental Section, Planning Branch, PO Box 867, Little Rock, AR 72203-0867, telephone (501) 324-5032, e-mail: Patricia.M.Anslow@usace.army.mil.

SUPPLEMENTARY INFORMATION: 1. McKARNS: The McClellan-Kerr Arkansas River Navigation System consists of a series of 18 locks and dams (17 existing and 1 currently under construction) and provides navigation from the Mississippi River to the Port of Catoosa near Tulsa, OK. River flow in the Arkansas River is modified primarily by 11 reservoirs in Oklahoma.

2. Study History: Studies in the area have occurred since the mid-1960's. Structures were placed along the White River and between the White and Arkansas River to regulate hydrologic flow between the two systems in the 1960's, 1970's and late 1980's.

3. Comments/Scoping Meeting: Interested parties are requested to express their views concerning the proposed activity. The public is encouraged to provide written comments in addition to or in lieu of, oral comments at scoping meetings. To be most helpful, scoping comments should clearly describe specific environmental topics or issues, which the commentator believes the document should address. Oral and written comments receive equal consideration.

Scoping meetings will be held with government agencies and the public. Public scoping meetings will be held in the summer of 2003 in Pine Bluff, AR. The location, time, and date will be published at least 14 days prior to the scoping meeting. Comments received as a result of this notice and the news releases will be used to assist the preparers in identifying potential impacts to the quality of the human or natural environment. Affected local, state, or Federal agencies, affected Indian Tribes, and other interested private organizations and parties may participate in the scoping process by forwarding written comments to the above noted address. Interested parties may also request to be included on the mailing list for public distribution of meeting announcements and documents.

4. Alternatives/Issues: The EIS will evaluate the effects of structural and non-structural solutions to regulate hydrologic flow between the two river systems. Anticipated significant issues to be addressed in the EIS include impacts on: (1) Navigation; (2) flooding; (3) recreation; (4) river hydraulics; (5) fish and wildlife resources and habitats; (6) wetlands; (7) timber and forestry management; and (8) other impacts identified by the public, agencies or USACE studies.

5. Availability of the Draft EIS: The Draft EIS is anticipated to be available for public review in the fall of 2004 subject to the receipt of Federal funding.

6. Authority: The River and Harbor Act of 1946 authorized the development of the Arkansas River and its tributaries for the purposes of navigation, flood control, hydropower, water supply, recreation, fish and wildlife. Public Law 91-649 stated that the project would be known as the McClellan-Kerr Arkansas River Navigation System.

Luz D. Ortiz,
Army Federal Register Liaison Officer.

[FR Doc. 03-15578 Filed 6-19-03; 8:45 am]

BILLING CODE 3710-57-M